FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Ship Beyond, Inc., 263 E. Redondo Beach Blvd., Gardena, CA 90245. Officer: Jimmy Lee, President (Qualifying Individual)

Seafair International Logistics, LLC, 910 W. Philips Street, #220, Ontario, CA 91762. Officers: Hengyi (Kelvin) Gu, Manager (Qualifying Individual), Tao Lu, Member

Daudry Business Group, Corp., dba Adam Logistics, 6713 NW 84th Ave., Miami, FL 33166. Officer: Darcy G. Perez, President (Qualifying Individual)

Inter-American Movers and Forwarders, LLC, 3032 N.W. 72nd Avenue, Miami, FL 33122. Officers: Terence A. Rignault, Director (Qualifying Individual), Alejandro Jerez, Managing Member

Non-Vessel-Operating Common Carrier and Ocean Freight Forwarder Transportation Intermediary Applicants

The Ultimate Freight Management & Logistics, Inc., 9215 Hall Road, Downey, CA 90241. Officers: Charles Chen, President (Qualifying Individual), Yi Li, CFO

Royalty Logistics, Inc., 6356 NW 99 Ave., Miami, FL 33178. Officers: Doumit Shmouni, President (Qualifying Individual), Diane Aboukhalil, Secretary

Prime Movers Inc., 242 South Coastal Highway 17, Midway, GA 31320. Officers: Olugbenga A. Awe, CEO (Qualifying Individual), Akinwole A. Awujo, Treasurer

Power Freight Systems, Inc., 7447A Morton Ave., Newark, CA 94560. Officers: Sandra K. Thoroughman, Dir. Of Int'l Services (Qualifying Individual), Malcom Winspear, President

Pangaea Logistics, Inc., 45-09 104th Street, Corona, NY 11368. Officers: Anthony C. Vozzolo, President (Qualifying Individual), David S. Fine, Vice President

K&K Global LLC, 6820 Ravens Crest Drive, Plainsboro, NJ 08536. Officer: Katsiaryna Dzemyaniuk, President (Qualifying Individual)

JBH Worldwide LLC dba JBH Worldwide, 701 Tennent Road, Manalapan, NJ 07726. Officer: Jay Horowitz, President (Qualifying Individual)

JCC International Enterprises Inc., State Road #190 Km. 3.4 Sabana Abajo Ward, Carolina, PR 00984. Officer: Liza Vilanova, President (Qualifying Individual)

United Logistics Corp, 3650 Mansell Rd., #400, Alpharetta, GA 30022. Officers: Wei Wen Li, Secretary (Qualifying Individual), Chuanxiang Li, President

Ocean Freight Forwarder—Ocean Transportation Intermediary Applicants

Mariela N. Lopez-Torres, 665 NW 85th Place, Apt. 103, Miami, FL 33126. Sole Proprietor

Blue Supply Chain Solutions, LLC, 4061 Windward Cove Lane, Apison, TN 37302. Officers: Corey P. Bonner, Chief Manager (Qualifying Individual), Dana D. Reeves, Secretary

International Cargo Freight Forwarder, Inc., 105-20 Liberty Ave., Ozone Park, NY 11417. Officers: Edul Ahmad, CEO (Qualifying Individual), Steve Massiah, Vice President

World Express & Connection Inc, 63 Hook Road, Bayonne, NJ 07002. Officers: Raya Bakhirev, General Manager (Qualifying Individual), Aleksandr Solovyev, President

Logistics Management Solutions, L.C., One City Place, Suite 415, Saint Louis, MO 63141. Officers: Gregory L. Umstead, Company Officer (Qualifying Individual), Dennis F. Schoemehl, President

PJC Express Inc., 16611 Living Rock Court, Chino Hills, CA 91709. Officers: Ching C. Lei, Secretary (Qualifying Individual), Paul H. Tsui, President

Dated: November 13, 2009.
Tanga S. FitzGibbon,
Assistant Secretary.

[FR Doc. E9-27648 Filed 11-17-09; 8:45 am]

BILLING CODE 6730-01-P